DEPARTMENT OF TRANSPORTATION

National Highway Traffic Safety Administration

[U.S. DOT Docket Number NHTSA-2007-0035 Draft ID 0001]

Reports, Forms, and Recordkeeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections.

This document describes the collection of information under the Early Warning Reporting requirements enacted by the Transportation Recall Effectiveness, Accountability, and Documentation (TREAD) Act, Pub. L. 106-414, for which NHTSA, intends to seek OMB approval.

DATES: Comments must be received on or before January 14, 2008.

ADDRESSES: Comments must refer to the docket and notice numbers cited at the beginning of this notice and be submitted to Docket Management, Room W12-140, 1200 New Jersey Avenue, SE., Washington, DC 20590. Please identify the proposed collection of information for which a comment is provided, by referencing its OMB Clearance Number. It is requested, but not required, that 2 copies of the comment be provided. The section is open on weekdays from 10 a.m. to 5 p.m.

FOR FURTHER INFORMATION CONTACT: Complete copies of each request for collection of information may be obtained at no charge from Mr. Paul Simmons, Office of Defects Investigation, NHTSA, 1200 New Jersey Avenue, SE., Washington, DC 20590. Mr. Simmons can be contacted at (202) 366-2315. Please identify the relevant collection of information by referring to its OMB Control Number.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g. permitting electronic submission of responses.

In compliance with these requirements, NHTSA asks for public comments on the following proposed collections of information:

(1) Title: Reporting of Information and Documents about Potential Defects—49 CFR part 579.

OMB Control Number: 2127-0616

Affected Public: Manufacturers of motor vehicles and motor vehicle equipment.

Abstract: Under Chapter 301 of the Title 49 of the United States Code, manufacturers of motor vehicles and items of motor vehicle equipment are periodically required to submit certain information to NHTSA, including information about claims and notices about deaths and serious injury, property damage data, communications to customers and others, and information on Safety Recalls and Campaigns in foreign countries covering vehicles or equipment that are identical or substantially similar to vehicles or equipment sold or offered for sale in the United States. The statute also authorized NHTSA to require the submission of other data that may assist in the identification of safety-related defects in vehicles and equipment. Review of the documents submitted is intended to provide NHTSA with “early warning” of potential safety-related defects in motor vehicles and motor vehicle equipment. NHTSA will rely on the information provided (as well as other relevant information) in deciding whether to open safety defect investigations.

Estimated Annual Burden: The annual burden is estimated to be 84,218 hours. The estimated annual cost is $8,105,551.

Number of Respondents: 542.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Daniel C. Smith,
Associate Administrator for Enforcement.

[FR Doc. E7-22265 Filed 11-14-07; 8:45 am]

BILLING CODE 4910-59-P